DEPARTMENT OF DEFENSE

Department of the Air Force

U.S. Air Force Exclusive Patent License

AGENCY: Air Force Research Laboratory Information Directorate, Rome, New York, Department of the Air Force, DOD.

ACTION: Notice of intent to issue an exclusive patent license.

SUMMARY: Pursuant to the provisions of part 404 of Title 37, Code of Federal Regulations, which implements Public Law 96-517, as amended, the Department of the Air Force announces its intention to grant Lilo Life LLC, a corporation of New York, having a place of business at 106 Genesee St., Utica, New York 13413, an exclusive license in any right, title and interest the United States Air Force has in: In U.S. Patent No. 8,317,058 entitled “Bicyclists' Water Bottle with Bottom Drinking Valve”, issued on November 27th, 2012, U.S. Design Patent No. D588,856 issued on March 24th, 2009, and U.S. Design Patent D583,626 issued on December 20th, 2008.

FOR FURTHER INFORMATION CONTACT: An exclusive license for this patent will be granted unless a written objection is received within fifteen (15) days from the date of publication of this Notice. Written objections should be sent to: Air Force Research Laboratory, Office of the Staff Judge Advocate, AFRL/RIJ, 26 Electronic Parkway, Rome, New York 13441-4514. Telephone: (315) 330-2087; Facsimile (315) 330-7583.

Henry Williams,
Acting Air Force Federal Register Liaison Officer.

[FR Doc. 2016-05946 Filed 3-15-16; 8:45 am]

BILLING CODE 5001-10-P